DEPARTMENT OF DEFENSE

Department of the Army, Corps of Engineers

Notice of Availability of Draft Environmental Impact Statement for the Proposed Rio del Oro Specific Plan Project, in the City of Rancho Cordova, Sacramento County, CA

AGENCY: Department of the Army, U.S. Army Corps of Engineers, DoD.

ACTION: Notice of availability.

SUMMARY: Pursuant to the National Environmental Policy Act (NEPA), the U.S. Army Corps of Engineers (USACE), DoD. Sacramento District has prepared a Draft Environmental Impact Statement (DEIS) that analyzes the potential effects of implementing each of five alternative scenarios for a mixed-use development in the approximately 3,828-acre Rio del Oro Specific Plan area, in the City of Rancho Cordova, Sacramento County, CA. The EIS documents the existing condition of environmental resources in and around areas considered for development, and potential impacts on those resources as a result of implementing the alternatives. The alternatives considered in detail are: (1) Proposed Project/Proposed Action (i.e., Proposed Project Alternative), the Applicants' Preferred Alternative; (2) High Density (Increased Densities Consistent with Sacramento Area Council of Governments Blueprint); (3) Impact Minimization; (4) No Federal Action (No Section 404 of the Clean Water Act Permit); and (5) No Project/No Action (No development).

DATES: All written comments must be postmarked on or before February 5, 2007. A public hearing will be held on a date to be determined following the close of the comment period; notice of this hearing will be sent to all appropriate parties at a later date.

ADDRESSES: Comments may be submitted in writing to: Anna Sutton, U.S. Army Corps of Engineers, Sacramento District, Regulatory Branch, 1325 J Street, Room 1480, Sacramento, CA 95814-2922, or via e-mail to Anna.M.Sutton@spk01.usace.army. mil. Oral and written comments may also be submitted at the public hearing described in the DATES section.

FOR FURTHER INFORMATION CONTACT: Anna Sutton at (916) 557-7759 or via e-mail at Anna.M.Sutton@spk01.usace.army.mil.

SUPPLEMENTARY INFORMATION: Elliott Homes and GenCorp Realty Investments (GenCorp), the project applicant(s), are seeking adoption by the City of Rancho Cordova of the proposed Rio del Oro Specific Plan. Elliott Homes is seeking specific development entitlements (e.g., tentative subdivision maps); GenCorp is seeking overall development entitlements, but has not proposed specific development entitlements necessary for immediate or short-term development. Both Elliott Homes and GenCorp are also seeking authorization from USACE to place dredged or fill material into waters of the United States.

Five alternatives are evaluated in detail in the DEIS. Under the Proposed Project/Proposed Action (Proposed Project Alternative), buildout of the project would be split into five phases and is anticipated to occur over a 25- to 30-year period. The project provides for construction of approximately 11,601 residential dwelling units in three residential land use classifications on 1,920 acres, along with commercial land uses, neighborhood parks and other uses such as a landscape corridor and greenbelt, and several public schools. New utilities and communications infrastructure would be installed and new roadways and on- and off-site infrastructure improvements would be completed. The project designates a 507-acre wetland preserve area and two elderberry preserve areas on the project site. The four alternatives to the Proposed Project/Proposed Action are described briefly below.

(1) The High Density Alternative embraces the concept of “Smart Growth,” consistent with the Sacramento Area Council of Governments' Regional Blueprint Project. Under Smart Growth principles, areas planned for development are developed at higher densities. Although these higher densities may result in greater localized impacts on resources, the overall area of disturbance is reduced by concentrating development in particular locations. The total acreage of residential development would be the same under this alternative as under the Proposed Project/Proposed Action, but approximately 3,800 additional residential units would be constructed. The acreage of commercial and industrial development as well as the wetland preserve would be the same.

(2) The Impact Minimization Alternative would reconfigure project components to reduce impacts on waters of the United States, including wetlands and high-quality biological habitat. An additional 485 acres of the project site would be designated as part of the protected wetland preserve; as a result, approximately 25% of the project site would become a part of the wetland preserve. The total acreage of residential development would be reduced by approximately 470 acres and approximately 1,040 fewer residential units would be constructed, although overall density would increase because a greater proportion of residential acreage would be developed with medium and high density. Commercial and industrial development sites would be slightly reduced.

(3) The No Federal Action Alternative was designed to allow some development of the project site while avoiding the placement of dredged or fill material into waters of the United States. Under this alternative, 872 acres of the project site would be designated “Natural Resources” under the City of Rancho Cordova General Plan. Land with this use designation is set aside as natural habitat with no urban development; public access into this area would be prohibited. The types of land uses would remain the same as under the Proposed Project/Proposed Action.

(4) The No Project/No Action Alternative would preclude development of the project; under this alternative the majority of the project site would remain under the jurisdiction of the City of Rancho Cordova. This alternative assumes that aggregate mining operations to remove portions of existing dredge tailings at the project site would continue under existing Conditional Use Permits. Aggregate mining operations are not part of the Rio del Oro project.

USACE invites full public participation to promote open communication and better decision-making. All persons and organizations that have an interest in the Rio del Oro Specific Plan Project are urged to participate in the NEPA process. A public hearing will be held as described in the DATES section. This hearing will be announced in advance through notices, media news releases, and/or mailings.

Copies of the DEIS may be reviewed at the following locations:

1. U.S. Army Corps of Engineers, Sacramento District Web site: http://www.spk.usace.army.mil/organizations/cespk-co/regulatory/index.html.

2. City of Rancho Cordova City Hall, 2729 Prospect Park Drive, Rancho Cordova, CA 95670.

3. City of Rancho Cordova Planning Department Web site: http://www.cityofranchocordova.org/city_departments/planning_main.html.

Brenda S. Bowen,
Army Federal Register Liaison Officer.

[FR Doc. 06-9597 Filed 12-7-06; 8:45 am]

BILLING CODE 3710-EZ-M